INTERNATIONAL TRADE COMMISSION

[Investigations Nos. 731-TA-404-408 (Preliminary) and 731-TA-898-908 (Preliminary)]

Hot-Rolled Steel Products from Argentina, China, India, Indonesia, Kazakhstan, Netherlands, Romania, South Africa, Taiwan, Thailand, and Ukraine

Determinations

On the basis of the record ¹ developed in the subject investigations, the United States International Trade Commission determines, pursuant to section 703(a) of the Tariff Act of 1930 (the “Act”) (19 U.S.C. 1671b(a)), that there is a reasonable indication that an industry in the United States is materially injured by reason of imports from Argentina, India, Indonesia, South Africa, and Thailand of hot-rolled steel products that are alleged to be subsidized by the Governments of Argentina, India, Indonesia, South Africa, and Thailand. The Commission also determines, pursuant to section 733(a) of the Act (19 U.S.C. 1673b(a)), that there is a reasonable indication that an industry in the United States is materially injured by reason of imports from Argentina, China, India, Indonesia, Kazakhstan, the Netherlands, Romania, South Africa, Taiwan, Thailand, and Ukraine of hot-rolled steel products that are alleged to be sold in the United States at less than fair value (LTFV).

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling which will be published in the Federal Register as provided in section 207.21 of the Commission's rules upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On November 13, 2000, petitions were filed with the Commission and the Department of Commerce on behalf of Bethlehem; Gallatin; IPSCO; LTV; National; Nucor; SDI; USX; Weirton; ² and the labor union representing the organized workers at Weirton Steel Corp. known as the Independent Steelworkers Union, alleging that an industry in the United States is materially injured, and is threatened with material injury, by reason of subsidized imports of hot-rolled steel products from Argentina, India, Indonesia, South Africa, and Thailand and by reason of LTFV imports of the same from Argentina, China, India, Indonesia, Kazakhstan, the Netherlands, Romania, South Africa, Taiwan, Thailand, and Ukraine. Accordingly, effective November 13, 2000, the Commission instituted countervailing duty investigations Nos. 701-TA-404-408 (Preliminary) and antidumping duty investigations Nos. 731-TA-898-908 (Preliminary).

² Weirton is not a petitioner in the investigation involving the Netherlands.

Notice of the institution of the Commission's investigations and of a public conference to be held in connection therewith was given by posting copies of the notice in the Office of the Secretary, U.S. International Trade Commission, Washington, DC, and by publishing the notice in the Federal Register of November 22, 2000 (65 FR 70364). The conference was held in Washington, DC, on December 4, 2000, and all persons who requested the opportunity were permitted to appear in person or by counsel.

The Commission transmitted its determinations in these investigations to the Secretary of Commerce on December 28, 2000. The views of the Commission are contained in USITC Publication 3381 (December 2000), entitled Hot-Rolled Steel Products from Argentina, China, India, Indonesia, Kazakhstan, Netherlands, Romania, South Africa, Taiwan, Thailand, and Ukraine: Investigations Nos. 701-TA-404-408 (Preliminary) and 731-TA-898-908 (Preliminary).

Issued: December 29, 2000.
By order of the Commission.
Donna R. Koehnke,
Secretary.

[FR Doc. 01-234 Filed 1-3-01; 8:45 am]

BILLING CODE 7020-02-P